DEPARTMENT OF TRANSPORTATION

Federal Railroad Administration

[Docket No. FRA-2025-0007]

Proposed Agency Information Collection Activities; Comment Request

AGENCY: Federal Railroad Administration (FRA), Department of Transportation (DOT).

ACTION: Notice of information collection; request for comment.

SUMMARY: Under the Paperwork Reduction Act of 1995 (PRA) and its implementing regulations, FRA seeks approval of the Information Collection Request (ICR) summarized below. Before submitting this ICR to the Office of Management and Budget (OMB) for approval, FRA is soliciting public comment on specific aspects of the activities identified in the ICR.

DATES: Interested persons are invited to submit comments on or before October 7, 2025

ADDRESSES: Written comments and recommendations for the proposed ICR should be submitted on www.regulations.gov to the docket, Docket No. FRA-2025-0007. All comments received will be posted without change to the docket, including any personal information provided. Please refer to the assigned OMB control number (2130-0560) in any correspondence submitted. FRA will summarize comments received in response to this notice in a subsequent notice, made available to the public, and include them in its information collection submission to OMB for approval.

FURTHER INFORMATION CONTACT: Ms. Arlette Mussington, Information Collection Clearance Officer, at email: arlette.mussington@dot.gov or telephone: (571) 609-1285 or Ms. Joanne Swafford, Information Collection Clearance Officer, at email: joanne.swafford@dot.gov or telephone: (757) 897-9908.

SUPPLEMENTARY INFORMATION: The PRA, 44 U.S.C. 3501-3520, and its implementing regulations, 5 CFR part 1320, require Federal agencies to provide 60 days' notice to the public to allow comment on information collection activities before seeking OMB approval of the activities. See 44 U.S.C. 3506, 3507; 5 CFR 1320.8 through 1320.12. Specifically, FRA invites interested parties to comment on the following ICR regarding: (1) whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, comments received will advance three objectives: (1) reduce reporting burdens; (2) organize information collection requirements in a “user-friendly” format to improve the use of such information; and (3) accurately assess the resources expended to retrieve and produce information requested. See 44 U.S.C. 3501.

The summary below describes the ICR that FRA will submit for OMB clearance as the PRA requires:

Title: Use of Locomotive Horns at Highway-Rail Grade Crossings.

OMB Control Number: 2130-0560.

Abstract: FRA's locomotive horn use regulations (49 CFR part 222) prescribe standards for sounding locomotive horns when locomotives approach and pass through public highway-rail grade crossings. FRA collects information from railroads and public authorities to increase safety at public highway-rail grade crossings nationwide by requiring that locomotive horns be sounded when trains approach and pass through these crossings or by ensuring that a safety level, at least equivalent to that provided by routine locomotive horn sounding, exists for quiet zone corridors in which such routine horn sounding is silenced. FRA reviews applications by public authorities intending to establish new quiet zones by implementing alternative safety measures and approves the effectiveness rate assigned to them.

In this 60-day notice, FRA has made program changes and adjustments that decreased the previously approved burden hours from 7,253 to 7,232 hours and decreased the number of responses from 3,620 to 3,536. This decrease in burden, after a thorough review, is the result of the changes described in the sections summarized below:

• FRA published a final rule on July 1, 2025, titled Administrative Updates to the Use of Locomotive Horns at Public Highway-Rail Grade Crossings Regulations.¹ FRA removed certified mail notification requirements and allows electronic submittal of applications and notifications to other parties and to FRA's Grade Crossing and Trespasser Outreach Division. The estimated burdens for §§ 222.39, 222.43, 222.47 and 222.51 have been updated accordingly, decreasing burdens by 72 hours.

¹ 90 FR 28150.

• Under § 222.51(c), which describes the process for reviewing the status of any quiet zone, FRA determined that the burden previously reported for public comments should be excluded because the submission of public comments in response to a Federal Register notice falls outside the PRA's definition of information under 5 CFR 1320.3(h)(4). Accordingly, FRA is removing the burden previously attributed to public comments from interested parties during FRA's review of the status of any quiet zone.

• Under § 222.55(b) and (d), which describes how interested parties may apply for approval from the Associate Administrator to demonstrate proposed new supplementary or alternative safety measures (SSMs/ASMs), FRA adjusted the burden estimates to reflect the number of hours and estimated average time required to compose the written request, increasing the burden by 40 hours. The increased burden hours reflect additional time needed, after the demonstration of proposed SSMs or ASMs, to gather all the necessary documentation and prepare the written application with the required information that must be included pursuant to § 222.55(d)(1) through (5).

• Lastly, under § 222.57(c), which establishes procedures for how parties can seek reconsideration of an Associate Administrator decision to terminate a quiet zone, and § 222.57(d), which establishes procedures for railroads to request reconsideration of an Associate Administrator decision to approve an application for approval of a proposed quiet zone, FRA determined that the estimated burden hours were not included in the previously reported burden. FRA has corrected the oversight by adding 9 burden hours.

Overall, program changes and adjustments decreased the total burden hours for this submission by 21 hours.

Type of Request: Revision of a currently approved collection.

Affected Public: Businesses.

Form(s): N/A.

Respondent Universe: 754 railroads/645 public authorities.

Frequency of Submission: On occasion.

Reporting Burden:

CFR Section (49 CFR part 222) | Respondent universe | Total annual responses | Average time per response | Total annual burden hours | Wage ² rate | Total cost equivalent
|  | (A) | (B) | (C) = A * B | (D) | (E) = C * D
222.15 How does one obtain a waiver of a provision of this regulation?
—Petition for waiver | 754 railroads 645 public authorities | 2 petitions | 4 hours | 8 | $89.13 | $713.04
222.17 How can a State agency become a recognized State agency?
—Any State agency responsible for highway-rail grade crossing safety and/or highway and road safety may become a recognized State agency by submitting an application to the Associate Administrator | FRA anticipates zero submissions over the next three-year period.
222.39 How is a quiet zone established?
—(b)(1) and (2) Public authority application to FRA to establish a quiet zone | 645 public authorities | 15 applications | 85.7 hours | 1,285.50 | 73.40 | 94,355.70
—(b)(3) 60-day comment period —(i) Application copies | 645 public authorities | 90 copies | 2 minutes | 3 | 73.40 | 220.20
—(ii) Comments to FRA on public authority application (Revised requirement. FRA amended § 222.39(b)(3) to remove the certified mail requirement, to require electronic submittal of the application to FRA, and to allow for electronic service of the application to other parties.) | 754 railroads | 30 comments | 1.5 hours | 45 | 89.13 | 4,010.85
—(iii) Written statements of waived right to comment on public authority application | FRA anticipates receiving zero submissions over the next three-year period.
222.43 What notices and other information are required to create or continue a quiet zone?
—Written notice of public authority's intent to create new quiet zone —notification to required parties (Revised requirement. FRA amended § 222.43 to remove the certified mail notification requirements, to require electronic service of notifications required in this section to FRA, and to allow for electronic service of the notifications required in this section to other parties.) | Public authorities, railroads, and State agencies | 60 notices 180 notifications | 40 hours 2 minutes | 2,400 6 | 73.40 73.40 | 176,160.00 440.40
—(b)(3) Notice of Intent-60-day comment period | 754 railroads and State agencies | 120 comments | 1.5 hours | 180 | 89.13 | 16,043.40
—(d) Notice of Quiet Zone Establishment | 645 public authorities | 60 notices | 40 hours | 2,400 | 73.40 | 176,160.00
—Notification to required parties |  | 360 notifications | 2 minutes | 12 | 73.40 | 880.80
—(d)(2)(v) and (vi) Required contents—Crossing Inventory Forms (includes requirements under § 222.49(a)) | 645 public authorities | 300 updated forms | 30 minutes | 150 | 73.40 | 11,010.00
—(d)(2)(xi) Certification by chief executive officer that the information submitted by the public authority is accurate | 645 public authorities | 60 certifications | 5 minutes | 5.00 | 73.40 | 367.00
222.45 When is a railroad required to cease routine sounding of locomotive horns at crossings?
—On the date specified in a Notice of Quiet Zone Continuation or Notice of Quiet Zone Establishment that complies with the requirements set forth in § 222.43, a railroad shall refrain from, or cease, routine sounding of the locomotive horn at all public, private and pedestrian grade crossings identified in the Notice. | The estimated paperwork burden for this requirement is covered under § 222.43(d)(1)(i).
222.47 What periodic updates are required?
—(a)(1) and (b)(1) Written affirmation that SSMs and ASMs continue to conform | 645 public authorities | 180 written affirmations | 30 minutes | 90 | 73.40 | 6,606.00
—Copies of such notification must be provided to the required parties (Revised requirement. FRA amended § 222.47(a)(1) and (b)(1) to remove the certified mail requirements, to allow for electronic service.) |  | 1,080 copies | 2 minutes | 36 | 73.40 | 2,642.40
—(a)(2) and (b)(2) Updated Crossing Inventory Forms (includes requirements under § 222.49(a)) (Revised requirement. FRA amended § 222.47(a)(2) and(b)(2) to require grade crossing inventory forms to be submitted electronically.) | 645 public authorities | 900 updated forms | 30 minutes | 450 | 73.40 | 33,030.00
222.49 Who may file Grade Crossing Inventory Forms?
—Who can file Grade Crossing Inventory Forms | The estimated paperwork burden for this requirement is included under §§ 222.39, 222.43, and 222.47.
222.51 Under what conditions will quiet zone status be terminated?
—(a) and (b) Written commitment to lower the potential risk to the traveling public at the crossings within the quiet zone | 645 public authorities | 15 written commitments | 5 hours | 75 | 73.40 | 5,505.00
—(d) Termination by the public authority—Written notice of termination (Revised requirement. FRA amended § 222.51(d)(2) to remove the certified mail requirement, and to allow for electronic service.) | FRA estimates zero public authorities will elect to terminate a quiet zone that they only recently designated or established, and so there will be no need to provide any written notices of termination. Consequently, there is no estimated paperwork burden associated with this requirement.
—(e)(1) Notification of termination (Revised requirement. FRA amended § 222.51(e)(1) to remove the certified mail requirement, and to allow for electronic service.) | 645 public authorities | 2 written notices | 1.5 hours | 3 | 73.40 | 220.20
222.55 How are new supplementary or alternative safety measures approved?
—(b) Request for FRA approval to demonstrate proposed new SSMs or ASMs for quiet zones | Interested parties | 1 letter | 1 hour | 1 | 73.40 | 73.40
—(d) Application for SSM/ASM approval upon completion of demonstration of proposed new SSMs or ASMs | Interested parties | 1 letter | 40 hours | 40 | 73.40 | 2,936.00
—(g) A public authority or other interested party may appeal to the Administrator from a decision by the Associate Administrator granting or denying approval of a proposed new SSM or ASM | The estimated paperwork burden for this requirement is covered under § 222.57.
222.57 Can parties seek review of the Associate Administrator's actions?
—(a) Petition to FRA for review of any decision by the Associate Administrator granting or denying an application for approval of a new SSM or ASM under § 222.55 | 645 public authorities and interested parties | 1 petition | 2 hours | 2 | 73.40 | 146.80
—Copies to the required parties |  | 6 copies | 2 minutes | 0.20 | 73.40 | 14.68
—(b) Request for FRA reconsideration of decision by the Associate Administrator denying an application for approval of quiet zone or requiring additional safety measures. This includes: copies of requests to required parties, additional documents, and letter of request for informal hearing | 645 public authorities | 1 petition | 4.50 hours | 4.50 | 73.40 | 330.30
—(c) Request for FRA reconsideration of decision to terminate a quiet zone | 645 public authorities | 1 petition | 4.50 hours | 4.50 | 73.40 | 330.30
—(d) Request for FRA reconsideration of approval of a quiet zone application | 754 railroads | 1 petition | 4.50 hours | 4.50 | 73.40 | 330.30
222.59 When may a wayside horn be used?
—(b) Written notice of wayside horn installation at grade crossing within a quiet zone | 645 public authorities | 5 notices | 2.5 hours | 12.50 | 73.40 | 917.50
—Copies of the written notices to the required parties |  | 30 copies | 2 minutes | 1 | 73.40 | 88.08
—(c) Notice of wayside horn installation located outside a quiet zone | 645 public authorities | 5 notices | 2.5 hours | 12.50 | 73.40 | 917.50
—Copies to the required parties |  | 30 copies | 2 minutes | 1 | 73.40 | 88.08
Appendix B to Part 222—Alternative Safety Measures
—Non-Engineering ASMs Programmed Enforcement | FRA anticipates zero submissions. FRA has yet to receive any submissions under this provision.
—Non-Engineering ASMs Photo Enforcement | FRA anticipates zero submissions. FRA has yet to receive any submissions under this provision.
Total | 754 railroads State agencies 645 public authorities and interested parties | 3,536 responses | N/A | 7,232 hours |  | 534,508.57

Total Estimated Annual Responses: 3,536.

² The dollar equivalent cost is derived from the 2023 Surface Transportation Board Full Year Wage A&B data series using the employee group 200 (Professional & Administrative) hourly wage rate of $50.93, and group 600 (Transportation, Train & Engine) hourly wage rate of $41.94. The total burden wage rate (Straight time plus 75 percent) used in the table is $89.13 ($50.93 × 1.75 = $89.13), and $41.94 ($41.94 × 1.75 = $73.40).

Total Estimated Annual Burden: 7,232 hours.

Total Estimated Annual Burden Hour Dollar Cost Equivalent: $534,508.57.

FRA informs all interested parties that it may not conduct or sponsor, and a respondent is not required to respond to, a collection of information that does not display a currently valid OMB control number.

Authority: 44 U.S.C. 3501-3520.

Christopher S. Van Nostrand,
Deputy Chief Counsel.

[FR Doc. 2025-15057 Filed 8-7-25; 8:45 am]

BILLING CODE 4910-06-P